DEPARTMENT OF THE INTERIOR

Fish and Wildlife Service

[FWS-R5-R-2013-N097; BAC-4311-K9-S3]

Patuxent Research Refuge, Prince George's and Anne Arundel Counties, MD; Final Comprehensive Conservation Plan and Finding of No Significant Impact

AGENCY: Fish and Wildlife Service, Interior.

ACTION: Notice of availability.

SUMMARY: We, the U.S. Fish and Wildlife Service (Service), announce the availability of the final comprehensive conservation plan (CCP) and finding of no significant impact (FONSI) for Patuxent Research Refuge (Patuxent RR, refuge), located in Prince George's and Anne Arundel Counties, Maryland. In this final CCP, we describe how we will manage the refuge for the next 15 years.

ADDRESSES: You may view or obtain copies of the final CCP and FONSI by any of the following methods. You may request a hard copy or a CD-ROM.

Agency Web site: Download a copy of the document at: http://www.fws.gov/northeast/planning/patuxent/ccphome.html.

Email: Send requests to northeastplanning@fws.gov. Include “Patuxent CCP” in the subject line of your email.

Mail: Bill Perry, Natural Resource Planner, U.S. Fish and Wildlife Service, 300 Westgate Center Drive, Hadley, MA 01035.

Fax: Attention: Bill Perry, 413-253-8468.

In-Person Viewing or Pickup: Call 301-497-5580 to make an appointment (necessary for view/pickup only) during regular business hours at Patuxent RR, 10901 Scarlet Tanager Loop, Laurel, MD 20708. For more information on locations for viewing or obtaining documents, see “Public Availability of Documents” under SUPPLEMENTARY INFORMATION.

FOR FURTHER INFORMATION CONTACT: Brad Knudsen, Refuge Manager, 301-437-5580 (phone) or Bill Perry, Planning Team Leader, 413-253-8688 (phone); northeastplanning@fws.gov (email).

SUPPLEMENTARY INFORMATION:

Introduction

With this notice, we finalize the CCP process for Patuxent RR. We started this process through a notice of intent in the Federal Register (76 FR 12563) on March 16, 2010. We announced the release of the draft CCP and environmental assessment (EA) to the public and requested comments in a notice of availability in the Federal Register (77 FR 24929) on October 10, 2012.

Patuxent RR was established in 1936 by Executive Order by President Franklin D. Roosevelt “to effectuate further the purposes of the Migratory Bird Conservation Act” and “as a wildlife experiment and research refuge.” The total approved acquisition boundary encompasses 12,841 acres between Baltimore, Maryland, and Washington, DC, an area with one of the highest densities of development in the United States. Currently, about 10,000 of Patuxent RR's 12,841 acres are forest, but the refuge also contains grasslands, freshwater marshes, shrub and early successional forest, and open water. It provides important habitat for a variety of migratory birds of conservation concern. The refuge also offers unique opportunities for environmental education and interpretation in an urban setting. It is home to the U.S. Geological Survey (USGS) Patuxent Wildlife Research Center, a leading international research institute for wildlife and applied environmental research.

We announce our decision and the availability of the FONSI for the final CCP for Patuxent RR in accordance with National Environmental Policy Act (NEPA) (42 U.S.C. 4321 et seq.) requirements. We completed a thorough analysis of impacts on the human environment, which we included in the draft CCP/EA.

The CCP will guide us in managing and administering Patuxent RR for the next 15 years. Alternative B, as described for the refuge in the draft CCP/EA, and with minor modifications described below, is the foundation for the final CCP.

Background

The National Wildlife Refuge System Administration Act of 1966 (16 U.S.C. 668dd-668ee) (Refuge Administration Act), as amended by the National Wildlife Refuge System Improvement Act of 1997, requires us to develop a CCP for each refuge. The purpose for developing a CCP is to provide refuge managers with a 15-year plan for achieving refuge purposes and contributing to the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, environmental education and interpretation. We will review and update the CCP at least every 15 years in accordance with the Refuge Administration Act.

CCP Alternatives, Including the Selected Alternative

Our draft CCP/EA (77 FR 24929) addressed several key issues, including:

• Evaluating reforestation of the refuge.

• Better understanding the implications and trade-offs of habitat management on refuge wildlife.

• Identifying and addressing climate change concerns impacting the refuge.

• Providing more public use opportunities on the refuge.

• Inventorying historic resources on the refuge, providing public access to these resources, and highlighting the historical significance of the refuge.

• Expanding and strengthening partnerships.

To address these issues and develop a plan based on the refuge's establishing purposes, vision, and goals, we evaluated three management alternatives for Patuxent RR in the draft CCP/EA. The alternatives have several actions in common. All alternatives include measures to control invasive species, monitor and abate diseases affecting wildlife and plant health, coordinate with USGS to house and support research efforts, protect cultural resources, continue existing projects managed by outside programs, and minimize impacts from the shooting ranges located on the refuge. There are also several actions that are common to both alternatives B and C. These include using green technology to update refuge buildings and grounds, constructing additional space for environmental education and interpretation classes, and collaborating with stakeholders on a redesign of the shooting ranges. There are other actions that differ among the alternatives. The draft CCP/EA provides a full description of each alternative and relates each to the issues and concerns that arose during the planning process. Below, we provide summaries of the three alternatives.

Management Alternatives

Alternative A (Current Management)

Alternative A (current management) satisfies the NEPA requirement of a “no action” alternative, which we define as “continuing current management.” It describes our existing management priorities and activities, and serves as a baseline for comparing and contrasting alternatives B and C. It would maintain our present levels of approved refuge staffing and the biological and visitor programs now in place. We would continue to manage for and maintain a diversity of habitats, including forests, forested wetlands, pine-oak savannah, grasslands, and scrub-shrub on the refuge. The refuge would continue to provide an active visitor use program that supports environmental education and interpretation, hunting, fishing, and wildlife observation and photography.

Alternative B (Forest Restoration and Mixed Public Use)

This alternative is the Service-preferred alternative. It combines the actions we believe would most effectively achieve the refuge's purposes, vision, and goals, and respond to the issues raised during the scoping period. It emphasizes the management of specific refuge habitats to support species of conservation concern in the Chesapeake Bay region. In particular, it emphasizes forest biodiversity and ecosystem function. This includes the restoration of a number of impoundments and grasslands to forested areas to support forest interior-dwelling bird species and other forest-dependent species. In addition, alternative B strives to promote wildlife-dependent public uses, while allowing for nonwildlife-dependent public uses. In particular, it promotes higher quality hunting and fishing programs, expands wildlife observation and photography opportunities, and initiates new interpretive and environmental education opportunities.

Alternative C (Maximize Forest Interior Restoration and Emphasize Wildlife-dependent Public Use Activities)

Alternative C would focus on maximizing interior forest habitat. This would require active management to restore a majority of impoundments and grasslands into forested areas that would support forest interior-dwelling species, in addition to other species of conservation concern. Alternative C also focuses on accommodating wildlife-dependent public uses while minimizing nonwildlife-dependent uses, particularly by expanding wildlife observation and photography opportunities, and reducing the number of special events and interpretive programming.

Comments

We solicited comments on the draft CCP/EA for Patuxent RR from October 10 to November 26, 2012 (77 FR 24929). During the comment period, we received 73 written responses. We evaluated all of the substantive comments we received, and include a summary of those comments, and our responses to them, as appendix I in the final CCP.

Selected Alternative

After considering the comments we received on our draft CCP/EA, we made several minor changes to alternative B, including correcting minor editorial, formatting, and typographical errors. These changes are described in the FONSI (appendix H in the final CCP) and in our response to public comments (appendix I in the final CCP).

We have selected alternative B to implement for Patuxent RR, with these minor changes, for several reasons. Alternative B comprises a mix of actions that, in our professional judgment, work best towards achieving the refuge's purposes, vision, and goals, NWRS policies, and the goals of other State and regional conservation plans. We also believe that alternative B most effectively addresses key issues raised during the planning process. The basis of our decision is detailed in the FONSI (appendix H in the final CCP).

Public Availability of Documents

You can view or obtain the final CCP, including the FONSI, as indicated under ADDRESSES.

Dated: September 30, 2013.
Wendi Weber,
Regional Director, Northeast Region.

[FR Doc. 2013-29832 Filed 12-13-13; 8:45 a.m.]

BILLING CODE 4310-55-P